DEPARTMENT OF THE INTERIOR

Fish and Wildlife Service

[FWS-R8-ES-2021-N029; FXES11140800000-212-FF08EVEN00]

Habitat Conservation Plan for the Mount Hermon June Beetle; Categorical Exclusion for the Encore Development Project; Santa Cruz County, California

AGENCY: Fish and Wildlife Service, Interior.

ACTION: Notice of availability; request for comments.

SUMMARY: We, the U.S. Fish and Wildlife Service (Service), announce the availability of a draft habitat conservation plan (HCP) and draft categorical exclusion (CatEx) for activities associated with an application for an incidental take permit (ITP) under the Endangered Species Act of 1973, as amended. The ITP would authorize take of the federally endangered Mount Hermon June beetle incidental to activities associated with the Encore Development Project. The applicant developed the draft HCP as part of their application for an ITP. The Service prepared a draft low-effect screening form and environmental action statement in accordance with the National Environmental Policy Act to evaluate the potential effects to the natural and human environment resulting from issuing an ITP to the applicant. We invite public comment on these documents.

DATES: Written comments should be received on or before September 22, 2021.

ADDRESSES:

To obtain documents: You may download a copy of the draft habitat conservation plan and categorical exclusion screening form, which includes the environmental action statement, at http://www.fws.gov/ventura/, or you may request copies of the documents by U.S. mail (below) or by electronic mail (see FOR FURTHER INFORMATION CONTACT).

To submit written comments: Please send us your written comments using one of the following methods:

• U.S. mail: Stephen P. Henry, Field Supervisor, Ventura Fish and Wildlife Office, U.S. Fish and Wildlife Service, 2493 Portola Road, Suite B, Ventura, CA 93003.

• Electronic mail: chad_mitcham@fws.gov.

FOR FURTHER INFORMATION CONTACT: Chad Mitcham, Fish and Wildlife Biologist, by phone at 805-644-1766, via email at chad_mitcham@fws.gov, or by U.S. mail to the Ventura Fish and Wildlife office (see ADDRESSES).

SUPPLEMENTARY INFORMATION: We, the U.S. Fish and Wildlife Service (Service), announce the availability of a draft habitat conservation plan (HCP) and draft low-effect screening form and environmental action statement for activities associated with an application for an incidental take permit (ITP) under section 10(a)(1)(B) of the Endangered Species Act of 1973, as amended (ESA; 16 U.S.C. 1531 et seq.). The applicant has developed a draft habitat conservation plan (HCP) that includes measures to minimize, avoid, and mitigate impacts to the federally endangered Mount Hermon June beetle (Polyphylla barbata). The permit would authorize take of the Mount Hermon June beetle incidental to otherwise lawful activities associated with the draft HCP for the Encore Development Project. The Service prepared a draft low-effect screening form and environmental action statement in accordance with the National Environmental Policy Act of 1969 (NEPA; 42 U.S.C. 4321 et seq.) to evaluate the potential effects to the natural and human environment resulting from issuing an ITP to the applicant. We invite public comment on these documents.

Background

The Service listed the Mount Hermon June beetle as endangered on January 24, 1997 (62 FR 3616). Section 9 of the ESA (16 U.S.C. 1538) prohibits the “take” of fish or wildlife species listed as endangered; by regulation, the Service may extend the take prohibition to fish or wildlife species listed as threatened. “Take” is defined under the ESA to include the following activities: “[T]o harass, harm, pursue, hunt, shoot, wound, kill, trap, capture, or collect, or to attempt to engage in any such conduct” (16 U.S.C. 1532); however, under section 10(a)(1)(B) of the ESA (16 U.S.C. 1539(a)(1)(B)), we may issue permits to authorize incidental take of listed wildlife species. Incidental take is take that is incidental to, and not the purpose of, carrying out an otherwise lawful activity. Regulations governing incidental take permits for endangered wildlife are in the Code of Federal Regulations (CFR) at 50 CFR 17.22. Issuance of an incidental take permit also must not jeopardize the existence of federally listed fish, wildlife, or plant species.

Proposed Project Activities

Chris Perri has applied for a permit for incidental take of the Mount Hermon June beetle. The take would occur in association with activities including the construction of 16 apartments and associated infrastructure within a 1.487-acre project area. The entire 1.487-acre project area consists of suitable habitat for the Mount Hermon June beetle. The HCP includes avoidance and minimization measures for the Mount Hermon June beetle and mitigation for unavoidable loss of suitable habitat through the purchase of conservation credits at a Service-approved conservation bank.

Public Comments

If you wish to comment on the draft HCP and categorical exclusion screening form, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen P. Henry,
Field Supervisor, Ventura Fish and Wildlife Office, Ventura, California.

[FR Doc. 2021-17975 Filed 8-20-21; 8:45 am]

BILLING CODE 4333-15-P